DEPARTMENT OF COMMERCE

National Oceanic and Atmospheric Administration

[RTID 0648-XB191]

Management Track Assessment for Atlantic Mackerel, Black Sea Bass, Golden Tilefish, and Scup Public Meeting

AGENCY: National Marine Fisheries Service (NMFS), National Oceanic and Atmospheric Administration (NOAA), Commerce.

ACTION: Notice of public meeting.

SUMMARY: NMFS and the Assessment Oversight Panel (AOP) will convene the Management Track Assessment Peer Review Meeting for the purpose of reviewing Atlantic mackerel, black sea bass, golden tilefish, and scup. The Management Track Assessment Peer Review is a formal scientific peer-review process for evaluating and presenting stock assessment results to managers for fish stocks in the offshore U.S. waters of the northwest Atlantic. Assessments are prepared by the lead stock assessment analyst and reviewed by an independent panel of stock assessment experts called the AOP. The public is invited to attend the presentations and discussions between the review panel and the scientists who have participated in the stock assessment process.

DATES: The public portion of the Management Track Assessment Peer Review Meeting will be held from June 28, 2021-July 1, 2021. The meeting will conclude on July 1, 2021 at 5 p.m. Eastern Standard Time. Please see SUPPLEMENTARY INFORMATION for the daily meeting agenda.

ADDRESSES: The meeting will be held via Google Meet (https://meet.google.com/tvt-hfpg-jnd).

FOR FURTHER INFORMATION CONTACT: Michele Traver, phone: 508-495-2195; email: michele.traver@noaa.gov.

SUPPLEMENTARY INFORMATION: For further information, please visit the Northeast Fisheries Science Center (NEFSC) website at https://www.fisheries.noaa.gov/new-england-mid-atlantic/population-assessments/fishery-stock-assessments-new-england-and-mid-atlantic. For additional information about the AOP meeting and the stock assessment peer review, please visit the NMFS/NEFSC web page at https://www.fisheries.noaa.gov/new-england-mid-atlantic/population-assessments/management-track-stock-assessments.

Daily Meeting Agenda—Management Track Peer Review Meeting

The agenda is subject to change; all times are approximate and may be changed at the discretion of the Peer Review Chair.

Monday, June 28, 2021
Time | Activity | Lead
9 a.m-9:15 a.m | Welcome/Logistics Introductions/Process | Russ Brown/ Michele Traver.
9:15 a.m-9:30 a.m | Background/AOP Review | Russ Brown.
9:30 a.m-10:30 a.m | Black Sea Bass | Gary Shepherd.
10:30 a.m-10:45 a.m | Break. |
10:45 a.m-11:45 a.m | Black Sea Bass cont | Gary Shepherd.
11:45 a.m-12:15 p.m | Discussion/Review/Summary | Review Panel.
12:15 p.m.-12:30 p.m | Public Comment | Public.
12:30 p.m.-1:30 p.m | Lunch. |
1:30 p.m.-2:30 p.m | Golden Tilefish | Paul Nitschke.
2:30 p.m.-3 p.m | Discussion/Review/Summary | Review Panel.
3 p.m.-3:15 p.m | Break. |
3:15 p.m.-4:15 p.m | Scup | Mark Terceiro.
4:15 p.m.-4:45 p.m | Discussion/Review/Summary |
4:45 p.m.-5 p.m | Public Comment | Public.
5 p.m | Adjourn. |

Tuesday, June 29, 2021
Time | Activity | Lead
9 a.m-9:15 a.m | Brief Overview and Logistics | Michele Traver/ Tom Miller (Chair).
9:15 a.m-10:30 a.m | Atlantic Mackerel | Kiersten Curti.
10:30 a.m-10:45 a.m | Break. |
10:45 a.m-11:30 a.m | Atlantic Mackerel cont. | Kiersten Curti.
11:30 a.m-12 p.m | Discussion/Review/Summary | Review Panel.
12 p.m.-12:15 p.m | Public Comment | Public.
12:15 p.m.-1:15 p.m | Lunch. |
1:15 p.m.-3 p.m | Follow-Ups | Review Panel/Analysts.
3 p.m.-3:15 p.m | Break. |
3:15 p.m.-4:30 p.m | Report Writing | Review Panel.
4:30 p.m | Adjourn. |

Wednesday, June 30, 2021
Time | Activity | Lead
9 a.m-12 p.m | Follow-Ups/Report Writing | Review Panel.
12 p.m.-1 p.m | Lunch. |
1 p.m.-5 p.m | Report Writing | Review Panel.
5 p.m | Adjourn. |

*Thursday, July 1, 2021 Will Be Used for Report Writing if Necessary

The meeting is open to the public; however, during the `Report Writing' session on Wednesday, June 30th, and Thursday, July 1st, the public should not engage in discussion with the Peer Review Panel.

Special Accommodations

This meeting is physically accessible to people with disabilities. Special requests should be directed to Michele Traver, via email, at least 5 days prior to the meeting date.

Dated: June 22, 2021.
Jennifer M. Wallace,
Acting Director, Office of Sustainable Fisheries, National Marine Fisheries Service.

[FR Doc. 2021-13639 Filed 6-24-21; 8:45 am]

BILLING CODE 3510-22-P